FEDERAL COMMUNICATIONS COMMISSION

47 CFR Part 0

[FCC 02-191]

Reorganization of the Office of Media Relations

AGENCY: Federal Communications Commission.

ACTION: Final rule.

SUMMARY: This document amends the Commission's rules to reflect the new organizational structure of the Office of Media Relations of the Federal Communications Commission, identifying their new functions.

DATES: Effective July 15, 2002.

FOR FURTHER INFORMATION CONTACT: Mary Beth Richards, Office of the Chairman, 202/418-1514 or Yvette Barrett, Office of the Managing Director, 202/418-0603.

SUPPLEMENTARY INFORMATION: This Order adopted June 26, 2002 and released July 9, 2002 by the Commission amends its rules to reflect the new structure of the Office of Media Relations to include the management of audio and visual support services for the Commission.

Authority for the adoption of the foregoing revisions is contained in sections 4(i), 4(j), 5(b), 5(c), 201(b) and 303(r) of the Communications Act of 1934, as amended, 47 U.S.C. 154(i), 154(j), 155(b), 201(b) and 303 (r).

The amendments adopted herein pertain to agency organization, procedure and practice. Consequently, the notice and comment provisions of the Administrative Procedure Act contained in 5 U.S.C. 553(b) is inapplicable.

Accordingly, it is ordered that part 0 of the Commission rules, set forth in Title 47 of the Code of Federal Regulations, are amended as set forth in the rule changes to be effective July 15, 2002.

List of Subjects in 47 CFR Part 0

Organization and functions (Government agencies), Reporting and recordkeeping requirements.

Federal Communications Commission.
Marlene H. Dortch,
Secretary.

Rule Changes

For the reasons discussed in the preamble, the Federal Communications Commission amends 47 CFR parts 0 as follows:

PART 0—COMMISSION ORGANIZATION

1. The authority citation for part 0 continues to read as follows:

Authority: Secs. 5, 48 Stat. 1068, as amended; 47 U.S.C. 155, 225, unless otherwise noted.

2. Section 0.15 is amended by adding paragraph (f) to read as follows:

§ 0.15 Functions of the Office.

* * * * *

(f) Manage the FCC's audio/visual support services and maintain liaison with outside parties regarding the broadcast of Commission proceedings.

[FR Doc. 02-17574 Filed 7-11-02; 8:45 am]

BILLING CODE 6712-01-P